DEPARTMENT OF THE INTERIOR

Fish and Wildlife Service

[FWS-R8-ES-2013-N135; FXES11130800000-134-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act of 1973, as amended (Act), prohibits activities with endangered and threatened species unless a Federal permit allows such activity. The Act also requires that we invite public comment before issuing these permits.

DATES: Comments on these permit applications must be received on or before July 24, 2013.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-092622

Applicant: Gabriel A. Valdes, Flagstaff, Arizona

The applicant requests a permit renewal to take (harass by survey and locate and monitor nests) the southwestern willow flycatcher (Empidonax traillii extimus) and to take (locate and monitor nests) the least Bell's vireo (Vireo belli pusillus) in conjunction with survey and population monitoring activities throughout the range of each species in California and Nevada for the purpose of enhancing the species' survival.

Permit No. TE-819475

Applicant: Bureau of Reclamation, Denver, Colorado

The applicant requests a permit renewal to take (harass by survey and locate and monitor nests) the southwestern willow flycatcher (Empidonax traillii extimus) in conjunction with survey and population monitoring activities throughout the range of the species in Nevada and California for the purpose of enhancing the species' survival.

Permit No. TE-05613B

Applicant: Garth P. Alling, Zephyr Cove, Nevada

The applicant requests a permit to take (harass by survey) the southwestern willow flycatcher (Empidonax traillii extimus) in conjunction with survey activities in Lincoln County, Nevada, for the purpose of enhancing the species' survival.

Permit No. TE-213314

Applicant: Morro Coast Audubon Society, Morro Bay, California

The applicant requests an amendment to a permit to take (locate, capture, handle, and relocate) the Morro shoulderband snail (Helminthoglypta walkeriana) in conjunction with population monitoring, relocation, and habitat enhancement activities in San Luis Obispo County, California, for the purpose of enhancing the species' survival.

Permit No. TE-053085

Applicant: Bureau of Reclamation, Boulder City, Nevada

The applicant requests an amendment to a permit to take (expand the range of authorized activities to capture, seine, electrofish, PIT tag, collect vouchers, and preserve larvae) the Razorback sucker (Xyrauchen texanus) and the bonytail chub (Gila elegans) in conjunction with surveys and scientific studies throughout the range of each species in California and Nevada for the purpose of enhancing the species' survival.

Permit No. TE-05661B

Applicant: Jennifer D. Gold, Santa Barbara, California

The applicant requests a permit to take (survey, locate, monitor nests, and erect fencing and exclosures) the California least tern (Sternula antillarum browni) (Sterna a. b.) in conjunction with survey activities at Ormond Beach and wetlands in Ventura County, California, for the purpose of enhancing the species' survival.

Permit No. TE-039460

Applicant: Thomas Olson Biological Consulting, Lompoc, California

The applicant requests a permit renewal to take (harass by survey, capture, handle, collect biological samples and voucher specimens, and release) the California tiger salamander (Santa Barbara County DPS) (Ambystoma californiense) in conjunction with surveys, population monitoring, and research activities in Santa Barbara County, California, for the purpose of enhancing the species' survival.

Permit No. TE-091012

Applicant: Molly E. Goble, San Ramon, California

The applicant requests a permit renewal to take (harass by survey, capture, handle, and release) the California tiger salamander (Santa Barbara County DPS and Sonoma County DPS) (Ambystoma californiense) in conjunction with survey activities throughout the range of the species in California for the purpose of enhancing the species' survival.

Permit No. TE-06131B

Applicant: Kimberly S. Romich, Yucaipa, California

The applicant requests a permit to take (harass by survey) the southwestern willow flycatcher (Empidonax traillii extimus) and to take (survey, capture, handle, and release) the San Bernardino kangaroo rat (Dipodomys merriami parvus) in conjunction with survey activities throughout the range of each species in California for the purpose of enhancing the species' survival.

Permit No. TE-06145B

Applicant: Alicia Hill, Encinitas, California

The applicant requests a permit to take (survey by pursuit) the Quino checkerspot butterfly (Euphydryas editha quino) in conjunction with surveys throughout the range of the species in California for the purpose of enhancing the species' survival.

Permit No. TE-06164B

Applicant: Megan A. Kelso, Palo Alto, California

The applicant requests a permit to take (harass) the California clapper rail (Rallus longirostris obsoletus) and Pacific pocket mouse (Perognathus longimembris pacificus) in conjunction with marsh plant research activities in Sonoma, Napa, Solano, Santa Clara, and Alameda Counties, California, for the purpose of enhancing the species' survival.

Permit No. TE-06197B

Applicant: Ian C. Cain, Santee, California

The applicant requests a permit to take (survey by pursuit) the Quino checkerspot butterfly (Euphydryas editha quino) in conjunction with surveys throughout the range of the species in California for the purpose of enhancing the species' survival.

Permit No. TE-050122

Applicant: California Department of Fish and Wildlife, Bishop, California

The applicant requests a permit renewal to take (survey, capture, handle, radio collar, tag, translocate, collect biological samples, and release) the bighorn sheep (Ovis canadensis sierrae) in conjunction with surveys and ecological research throughout the range of the subspecies in California for the purpose of enhancing the subspecies' survival.

Permit No. TE-115373

Applicant: Darin A. Busby, San Diego, California

The applicant requests a permit renewal to take (survey by pursuit) the Quino checkerspot butterfly (Euphydryas editha quino) and to take (capture, collect, and collect vouchers) the conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys throughout the range of each species in California for the purpose of enhancing the species' survival.

Permit No. TE-084254

Applicant: Ellen K. Schafhauser, Weldon, California

The applicant requests a permit renewal to take (survey by pursuit) the Delhi Sands flower-loving fly (Rhaphiomidas terminatus abdominalis) in conjunction with survey activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Larry Rabin,
Regional Director, Acting, Pacific Southwest Region, Sacramento, California.

[FR Doc. 2013-14990 Filed 6-21-13; 8:45 am]

BILLING CODE 4310-55-P